DEPARTMENT OF EDUCATION

Applications for New Awards; Striving Readers Comprehensive Literacy Program

AGENCY: Office of Elementary and Secondary Education, Department of Education.

ACTION: Notice.

SUMMARY: The Department of Education is issuing a notice inviting applications for new awards for fiscal year (FY) 2017 for Striving Readers Comprehensive Literacy Programs, Catalog of Federal Domestic Assistance (CFDA) number 84.371C.

DATES: Applications Available: May 16, 2017.

Deadline for Transmittal of Applications: July 17, 2017.

Deadline for Intergovernmental Review: September 13, 2017.

FOR FURTHER INFORMATION CONTACT: Cindy Savage, U.S. Department of Education, 400 Maryland Avenue SW., room 3E237, Washington, DC 20202-6450. Telephone: (202) 453-5998 or by email: OESE.SRCL@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The Striving Readers Comprehensive Literacy (SRCL) Program awards competitive grants to advance literacy skills, including pre-literacy skills, reading, and writing, for children from birth through grade 12, with an emphasis on disadvantaged children, including children living in poverty, English learners, and children with disabilities.

Priorities: These priorities are from the notice of final priorities, requirements, definitions, and selection criteria for this program, published elsewhere in this issue of the Federal Register (NFP).

Absolute Priority: For FY 2017 and any subsequent year in which we make awards based on the list of unfunded applications from this competition, this priority is an absolute priority. Under 34 CFR 75.105(c)(3) we consider only applications that meet this priority.

This priority is:

Interventions and Practices Supported by Moderate or Strong Evidence.

Under this priority, a State educational agency (SEA) must ensure that evidence plays a central role in the SRCL subgrants. Specifically, in its high-quality plan, an SEA must assure that (1) it will use an independent peer review process to prioritize awards to eligible subgrantees that propose high-quality comprehensive literacy instruction programs that are supported by moderate evidence or strong evidence, where evidence is applicable and available, and (2) the comprehensive literacy instruction program proposed by eligible subgrantees will align with the State's comprehensive literacy plan as well as local needs.

Competitive Preference Priorities: For FY 2017 and any subsequent year in which we make awards from the list of unfunded applications from this competition, these priorities are competitive preference priorities. Under 34 CFR 75.105(c)(2)(i) we award up to an additional five points to an application for each competitive preference priority, depending on how well the application meets one or more of these priorities.

These priorities are:

Competitive Preference Priority 1—Serving Disadvantaged Children.

Under this priority, an SEA must describe in its application a high-quality plan to award subgrants that will serve the greatest numbers or percentages of disadvantaged children, including children living in poverty, English learners, and children with disabilities.

Competitive Preference Priority 2—Alignment within a Birth through Fifth Grade Continuum.

Under this priority, an SEA must describe in its application a high-quality plan to align, through a progression of approaches appropriate for each age group, early language and literacy projects supported by this grant that serve children from birth to age five with programs and systems that serve students in kindergarten through grade five to improve school readiness and transitions for children across this continuum.

Requirements: The State Funding Allocations requirement is from Title III of Division H of the Consolidated Appropriations Act, 2016 (Pub. L. 114-113). The rest of these requirements are from the NFP.

State Funding Allocations.

Grantees must—

(1) Subgrant no less than 95 percent of funds received under this competition to eligible subgrantees;

(2) Ensure that at least—

(a) 15 percent of the subgranted funds serve children from birth through age five;

(b) 40 percent of the subgranted funds serve students in kindergarten through grade five; and

(c) 40 percent of the subgranted funds serve students in middle and high school, including an equitable distribution of funds between middle and high schools.

State Comprehensive Literacy Plan.

To be considered for an award under this program, an SEA must submit a new or revised State comprehensive literacy plan that is informed by a recent (conducted in the past five years) and comprehensive needs assessment developed with the assistance of its State literacy team. Additionally, the plan must be reviewed by the State literacy team and updated annually if an SEA receives an award under this program.

Local Literacy Plan.

Grantees must ensure that they will only fund subgrantees that submit a local literacy plan that: (1) is informed by a comprehensive needs assessment and that is aligned with the State comprehensive literacy plan; (2) provides for professional development; (3) includes interventions and practices that are supported by moderate evidence or strong evidence, where evidence is applicable and available; and (4) includes a plan to track children's outcomes consistent with all applicable privacy requirements.

Prioritization of Subgrants.

In selecting among eligible subgrantees, an SEA must give priority to eligible subgrantees serving greater numbers or percentages of disadvantaged children.

Continuous Program Improvement.

Grantees must use data, including the results of monitoring and evaluations and other administrative data, to inform the program's continuous improvement and decisionmaking, to improve program participant outcomes, and to ensure that disadvantaged children are served. Additionally, grantees must ensure that subgrantees, educators, families, and other key stakeholders receive the results of the evaluations conducted on the effectiveness of the program in a timely fashion, consistent with all applicable Federal, State, and other privacy requirements.

Supplement not Supplant.

Grantees must use funds under this program to supplement, and not supplant, any non-Federal funds that would be used to advance literacy skills for children from birth through grade 12.

Cooperation with National Evaluation.

Applicants must assure they will only fund subgrantees that provide a written assurance to cooperate with a national evaluation of the SRCL program. This may include adhering to the results of a random assignment process (e.g., lottery) to select schools or early learning providers that will receive SRCL funds as well as agreeing to implement the literacy interventions proposed to be funded under SRCL only in schools or early learning providers that will receive SRCL funds.

Definitions: The definition of “child with a disability” is from the Elementary and Secondary Education Act of 1965 (ESEA), as amended by the No Child Left Behind Act (NCLB). The rest of these definitions are from the NFP.

Child with a disability has the same meaning given that term in section 602 of the Individuals with Disabilities Education Act.¹

¹ Child with a disability has the same meaning in the ESEA, as amended by NCLB, and in the ESEA, as amended by the Every Student Succeeds Act (ESSA).

Comprehensive literacy instruction means instruction that—

(a) Includes developmentally appropriate, contextually explicit, and systematic instruction, and frequent practice, in reading and writing across content areas;

(b) Includes age-appropriate, explicit, systematic, and intentional instruction in phonological awareness, phonic decoding, vocabulary, language structure, reading fluency, and reading comprehension;

(c) Includes age-appropriate, explicit instruction in writing, including opportunities for children to write with clear purposes, with critical reasoning appropriate to the topic and purpose, and with specific instruction and feedback from instructional staff;

(d) Makes available and uses diverse, high-quality print materials that reflect the reading and development levels, and interests, of children;

(e) Uses differentiated instructional approaches, including individual and small group instruction and discussion;

(f) Provides opportunities for children to use language with peers and adults in order to develop language skills, including developing vocabulary;

(g) Includes frequent practice of reading and writing strategies;

(h) Uses age-appropriate, valid, and reliable screening assessments, diagnostic assessments, formative assessment processes, and summative assessments to identify a child's learning needs, to inform instruction, and to monitor the child's progress and the effects of instruction;

(i) Uses strategies to enhance children's motivation to read and write and children's engagement in self-directed learning;

(j) Incorporates the principles of universal design for learning;

(k) Depends on teachers' collaboration in planning, instruction, and assessing a child's progress and on continuous professional learning; and

(l) Links literacy instruction to the State's challenging academic standards, including standards relating to the ability to navigate, understand, and write about complex subject matters in print and digital formats.

Disadvantaged child means a child from birth to grade 12 who is at risk of educational failure or otherwise in need of special assistance and support, including a child living in poverty, a child with a disability, or a child who is an English learner. This term also includes infants and toddlers with developmental delays or a child who is far below grade level, who has left school before receiving a regular high school diploma, who is at risk of not graduating with a diploma on time, who is homeless, who is in foster care, or who has been incarcerated.

Eligible subgrantee means one or more LEAs or, in the case of early literacy, one or more LEAs or nonprofit providers of early childhood education, with a demonstrated record of effectiveness in improving language and early literacy development of children from birth through age five and in providing professional development in language and early literacy development.

English learner means an individual—

(a) Who is aged 3 through 21;

(b) Who is enrolled or preparing to enroll in an elementary school or secondary school;

(c)(i) Who was not born in the United States or whose native language is a language other than English;

(ii)(I) Who is a Native American or Alaska Native, or a native resident of the outlying areas; and

(II) Who comes from an environment where a language other than English has had a significant impact on the individual's level of English language proficiency; or

(iii) Who is migratory, whose native language is a language other than English, and who comes from an environment where a language other than English is dominant; and

(d) Whose difficulties in speaking, reading, writing, or understanding the English language may be sufficient to deny the individual—

(i) The ability to meet the challenging State academic standards;

(ii) The ability to successfully achieve in classrooms where the language of instruction is English; or

(iii) The opportunity to participate fully in society.

Evidence-based, when used with respect to a State, local educational agency, or school activity, means an activity, strategy, or intervention that—

(a) Demonstrates a statistically significant effect on improving student outcomes or other relevant outcomes based on—

(i) Strong evidence from at least one well-designed and well-implemented experimental study;

(ii) Moderate evidence from at least one well-designed and well-implemented quasi-experimental study; or

(iii) Promising evidence from at least one well-designed and well-implemented correlational study with statistical controls for selection bias; or

(b)(i) Demonstrates a rationale based on high-quality research findings or positive evaluation that such activity, strategy, or intervention is likely to improve student outcomes or other relevant outcomes; and

(ii) Includes ongoing efforts to examine the effects of such activity, strategy or intervention.

High-quality plan means any plan developed by the SEA that is feasible and has a high probability of successful implementation and, at a minimum, includes—

(a) The key goals of the plan;

(b) The key activities to be undertaken and the rationale for how the activities support the key goals;

(c) A realistic timeline, including key milestones, for implementing each key activity;

(d) The party or parties responsible for implementing each activity and other key personnel assigned to each activity;

(e) A strong theory, including a rationale for the plan and a corresponding logic model as defined in 34 CFR 77.1;

(f) Performance measures at the State and local levels; and

(g) Appropriate financial resources to support successful implementation of the plan.

Independent peer review means a high-quality, transparent review process informed by outside individuals with expertise in literacy development and education for children from birth through grade 12.

Moderate evidence means a statistically significant effect on improving student outcomes or other relevant outcomes based on at least one well-designed and well-implemented quasi-experimental study.

Professional development means activities that—

(a) Are an integral part of school and LEA strategies for providing educators (including teachers, principals, other school leaders, specialized instructional support personnel, paraprofessionals, and, as applicable, early childhood educators) with the knowledge and skills necessary to enable students to succeed in a well-rounded education and to meet the State's challenging academic standards;

(b) Are sustained (not stand-alone, one-day, or short term workshops), intensive, collaborative, job-embedded, data-driven, and classroom-focused; and

(c) May include activities that—

(1) Improve and increase teachers'—

(i) Knowledge of the academic subjects the teachers teach;

(ii) Understanding of how students learn; or

(iii) Ability to analyze student work and achievement from multiple sources, including how to adjust instructional strategies, assessments, and materials based on such analysis;

(2) Are an integral part of broad schoolwide and districtwide educational improvement plans;

(3) Allow personalized plans for each educator to address the educator's specific needs identified in observation or other feedback;

(4) Improve classroom management skills;

(5) Support the recruitment, hiring, and training of effective teachers, including teachers who became certified through State and local alternative routes to certification;

(6) Advance teacher understanding of—

(i) Effective instructional strategies that are evidence-based; or

(ii) Strategies for improving student academic achievement or substantially increasing the knowledge and teaching skills of teachers;

(7) Are aligned with, and directly related to, academic goals of the school or LEA;

(8) Are developed with extensive participation of teachers, principals, other school leaders, parents, representatives of Indian Tribes (as applicable), and administrators of schools to be served under this program;

(9) Are designed to give teachers of English learners, and other teachers and instructional staff, the knowledge and skills to provide instruction and appropriate language and academic support services to those children, including the appropriate use of curricula and assessments;

(10) To the extent appropriate, provide training for teachers, principals, and other school and community-based early childhood program leaders in the use of technology (including education about the harms of copyright piracy), so that technology and technology applications are effectively used in the classroom to improve teaching and learning in the curricula and academic subjects in which the teachers teach;

(11) As a whole, are regularly evaluated for their impact on teacher effectiveness and student academic achievement, with the findings of the evaluations used to improve the quality of professional development;

(12) Are designed to give teachers of children with disabilities or children with developmental delays, and other teachers and instructional staff, the knowledge and skills to provide instruction and academic support services to those children, including positive behavioral interventions and supports, multi-tier system of supports, and use of accommodations;

(13) Provide instruction in the use of data and assessments to inform classroom practice;

(14) Provide instruction in ways that teachers, principals, other school leaders, specialized instructional support personnel, and school administrators may work more effectively with parents and families;

(15) Involve the forming of partnerships with institutions of higher education, including, as applicable, Tribal Colleges and Universities as defined in section 316(b) of the Higher Education Act of 1965, as amended (20 U.S.C. 1059c(b)), to establish school-based teacher, principal, and other school leader training programs that provide prospective teachers, novice teachers, principals, and other school leaders with an opportunity to work under the guidance of experienced teachers, principals, other school leaders, and faculty of such institutions;

(16) Create programs to enable paraprofessionals (assisting teachers employed by an LEA receiving assistance under part A of title I) to obtain the education necessary for those paraprofessionals to become certified and licensed teachers;

(17) Provide follow-up training to teachers who have participated in activities described in this paragraph (c) that are designed to ensure that the knowledge and skills learned by the teachers are implemented in the classroom; or

(18) Where practicable, provide for school staff and other early childhood education program providers to address jointly the transition to elementary school, including issues related to school readiness.

State comprehensive literacy plan means a plan that addresses the pre-literacy and literacy needs of children from birth through grade 12, with special emphasis on disadvantaged children. A State comprehensive literacy plan is informed by a recent (conducted in the past five years) comprehensive needs assessment; aligns policies, resources, and practices; contains clear instructional goals; sets high expectations for all children and subgroups of children; and provides for professional development for all teachers in effective literacy instruction.

State literacy team means a team comprised of individuals with expertise in literacy development and education for children from birth through grade 12. The State literacy team must include individuals with expertise in the following areas:

(a) Implementing literacy development practices and instruction for children in the following age/grade levels: Birth through age five, kindergarten through grade 5, grades 6 through 8, and grades 9 through 12;

(b) Managing and implementing literacy programs that are supported by strong evidence or moderate evidence;

(c) Evaluating comprehensive literacy instruction programs;

(d) Planning for and implementing effective literacy interventions and practices, particularly for disadvantaged children, children living in poverty, struggling readers, English learners, and children with disabilities;

(e) Implementing assessments in the areas of phonological awareness, word recognition, phonics, vocabulary, comprehension, fluency, and writing; and

(f) Implementing professional development on literacy development and instruction.

A literacy team member may have expertise in more than one area. Team members may also include, but are not limited to: Library/media specialists; parents; literacy coaches; instructors of adult education; representatives of community-based organizations providing educational services to disadvantaged children and families; family literacy service providers; representatives from local or State school boards; and representatives from related child services agencies.

Strong evidence means a statistically significant effect on improving student outcomes or other relevant outcomes based on at least one well-designed and well-implemented experimental study.

Universal design for learning, as defined under section 103 of the Higher Education Act of 1965, as amended, means a scientifically valid framework for guiding educational practice that—

(a) Provides flexibility in the ways information is presented, in the ways students respond or demonstrate knowledge and skills, and in the ways students are engaged; and

(b) Reduces barriers in instruction, provides appropriate accommodations, supports, and challenges, and maintains high achievement expectations for all students, including students with disabilities and students who are limited English proficient.²

² English learner and limited English proficient have the same meaning.

Program Authority: Section 1502 of the ESEA, as amended by the NCLB, and Title III of Division H of the Consolidated Appropriations Act, 2016 (Pub. L. 114-113).³

³ Title III of Division H of the Consolidated Appropriations Act, 2016 (Pub L. 114-113) appropriated funds for the SRCL program under section 1502 of the ESEA, as amended by the NCLB. As such, the upcoming SRCL competition will be conducted under that authority. The Department notes that the ESEA, as amended in December 2015 by the ESSA, authorizes the Comprehensive Literacy State Development (CLSD) program, a program that is substantively similar to SRCL. See sections 2221-2224 of the ESEA, as amended by the ESSA. To provide for the orderly transition to future programs under the ESSA, the priorities, requirements, definitions, and selection criteria that apply to the SRCL program through this notice align, to the extent possible, with certain new statutory requirements that will apply to the CLSD program.

Applicable Regulations: (a) The Education Department General Administrative Regulations in 34 CFR parts 75, 77, 79, 81, 82, 84, 86, 97, 98, and 99. (b) The OMB Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The NFP.

II. Award Information

Type of Award: Discretionary grants.

Estimated Available Funds: $190,000,000.

Contingent upon the availability of funds and the quality of applications, we may make additional awards in subsequent years from the list of unfunded applications from this competition.

Estimated Range of Awards: $3,000,000—$80,000,000.

Estimated Average Size of Awards: $18,000,000.

Estimated Number of Awards: 5—10. The Department may make awards under this competition for the complete three-year (36-month) project period using FY 2016 and FY 2017 funds.

Note: The Department is not bound by any estimates in this notice.

Project Period: 36 months.

III. Eligibility Information

1. Eligible Applicants: SEAs of the 50 States, the District of Columbia, and Puerto Rico (referred to in this notice as State).

2. a. Cost Sharing or Matching: This program does not require cost sharing or

matching.

b. Supplement-Not-Supplant: As specified under Requirements, this program involves supplement-not-supplant funding requirements.

3. Eligible Subgrantees: (a) Under 34 CFR 75.708(b) and (c) a grantee may award subgrants—to directly carry out project activities described in its application—to the following types of entities: One or more LEAs or, in the case of early literacy, one or more LEAs or nonprofit providers of early childhood education, with a demonstrated record of effectiveness in improving language and early literacy development of children from birth through age five and in providing professional development in language and early literacy development.

(b) The grantee may award subgrants to entities it selects through a competition under procedures established by the grantee.

IV. Application and Submission Information

1. Address to Request Application Package: You can obtain an application package via the internet, from the Education Publications Center (ED Pubs), or from the program office.

To obtain a copy via the internet, use the following address:

ww.ed.gov/fund/grant/apply/grantapps/index.html.

To obtain a copy from ED Pubs, write, fax, or call: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application package from ED Pubs, be sure to identify this program as follows: CFDA number 84.371C.

To obtain a copy from the program office, contact: Cindy Savage, U.S. Department of Education, 400 Maryland Avenue SW., room 3E237, Washington, DC 20202. Telephone: (202) 453-5998 or by email: OESE.SRCL@ed.gov. If you use a TDD or TTY, call the FRS, toll free, at 1-800-877-8339.

Individuals with disabilities can obtain a copy of the application package in an accessible format (e.g., braille, large print, audiotape, or compact disc) by contacting the person listed under FOR FURTHER INFORMATION CONTACT.

2. Content and Form of Application Submission:

Page Limit: The application narrative is where you, the applicant, address the selection criteria that reviewers use to evaluate your application. We recommend that you: (1) Limit the application narrative to no more than 50 pages, and (2) use the following standards:

• A “page” is 8.5″ × 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract, the resumes, the bibliography, or the letters of support. However, the recommended page limit does apply to all of the application narrative, which includes responses to the priorities and selection criteria.

Requirements concerning the content and form of an application, together with the forms you must submit, are in the application package for this competition.

3. Submission Dates and Times:

Applications Available: May 16, 2017.

Deadline for Transmittal of Applications: July 17, 2017.

Applications for grants under this competition must be submitted electronically using the Grants.gov Apply site (Grants.gov). For information (including dates and times) about how to submit your application electronically, or in paper format by mail or hand delivery if you qualify for an exception to the electronic submission requirement, please refer to Other Submission Requirements in section IV of this notice.

We do not consider an application that does not comply with the deadline requirements.

Individuals with disabilities who need an accommodation or auxiliary aid in connection with the application process should contact either person listed under FOR FURTHER INFORMATION CONTACT. If the Department provides an accommodation or auxiliary aid to an individual with a disability in connection with the application process, the individual's application remains subject to all other requirements and limitations in this notice.

Deadline for Intergovernmental Review: September 13, 2017.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and System for Award Management: To do business with the Department of Education (Department), you must—

a. Have a Data Universal Numbering System (DUNS) number and a Taxpayer Identification Number (TIN);

b. Register both your DUNS number and TIN with the System for Award Management (SAM), the Government's primary registrant database;

c. Provide your DUNS number and TIN on your application; and

d. Maintain an active SAM registration with current information while your application is under review by the Department and, if you are awarded a grant, during the project period.

You can obtain a DUNS number from Dun and Bradstreet at the following Web site: http://fedgov.dnb.com/webform. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data you enter into the SAM database. Thus, if you think you might want to apply for Federal financial assistance under a program administered by the Department, please allow sufficient time to obtain and register your DUNS number and TIN. We strongly recommend that you register early.

Note: Once your SAM registration is active, it may be 24 to 48 hours before you can access the information in, and submit an application through, Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: http://www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements.

Applications for grants under this competition must be submitted electronically unless you qualify for an exception to this requirement in accordance with the instructions in this section.

a. Electronic Submission of Applications.

Applications for grants under the SRCL program, CFDA 84.371C, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the SRCL program at www.Grants.gov. You must search for the downloadable application package for this competition by the CFDA number. Do not include the CFDA number's alpha suffix in your search (e.g., search for 84.371, not 84.371C).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov. In addition, for specific guidance and procedures for submitting an application through Grants.gov, please refer to the Grants.gov Web site at: www.grants.gov/web/grants/applicants/apply-for-grants.html.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must upload any narrative sections and all other attachments to your application as files in a read-only, flattened Portable Document Format (PDF), meaning any fillable PDF documents must be saved as flattened non-fillable files. Therefore, do not upload an interactive or fillable PDF file. If you upload a file type other than a read-only, flattened PDF (e.g., Word, Excel, WordPerfect, etc.) or submit a password-protected file, we will not review that material. Please note that this could result in your application not being considered for funding because the material in question—for example, the application narrative—is critical to a meaningful review of your proposal. For that reason, it is important to allow yourself adequate time to upload all material as PDF files. The Department will not convert material from other formats to PDF. There is no need to password protect a file in order to meet the requirement to submit a read-only flattened PDF. And, as noted above, the Department will not review password-protected files. Additional, detailed information on how to attach files is in the application instructions.

• After you electronically submit your application, you will receive from Grants.gov an automatic notification of receipt that contains a Grants.gov tracking number. This notification indicates receipt by Grants.gov only, not receipt by the Department. Grants.gov will also notify you automatically by email if your application met all the Grants.gov validation requirements or if there were any errors (such as submission of your application by someone other than a registered Authorized Organization Representative, or inclusion of an attachment with a file name that contains special characters). You will be given an opportunity to correct any errors and resubmit, but you must still meet the deadline for submission of applications.

Once your application is successfully validated by Grants.gov, the Department will retrieve your application from Grants.gov and send you an email with a unique PR/Award number for your application.

These emails do not mean that your application is without any disqualifying errors. While your application may have been successfully validated by Grants.gov, it must also meet the Department's application requirements as specified in this notice and in the application instructions. Disqualifying errors could include, for instance, failure to upload attachments in a read-only, flattened PDF; failure to submit a required part of the application; or failure to meet applicant eligibility requirements. It is your responsibility to ensure that your submitted application has met all of the Department's requirements.

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT and provide an explanation of the technical problem you experienced with Grants.gov, along with the Grants.gov Support Desk Case Number. We will accept your application if we can confirm that a technical problem occurred with the Grants.gov system and that the problem affected your ability to submit your application by 4:30:00 p.m., Washington, DC time, on the application deadline date. We will contact you after we determine whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevents you from using the internet to submit your application.

If you mail your written statement to the Department, it must be postmarked no later than two weeks before the application deadline date. If you fax your written statement to the Department, we must receive the faxed statement no later than two weeks before the application deadline date.

Address and mail or fax your statement to: Cindy Savage, U.S. Department of Education, 400 Maryland Avenue SW., Room 3E237, Washington, DC 20202. FAX: (202) 260-8969.

Your paper application must be submitted in accordance with the mail or hand-delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: CFDA Number 84.371C, LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

Note: The U.S. Postal Service does not uniformly provide a dated postmark. Before relying on this method, you should check with your local post office.

We will not consider applications postmarked after the application deadline date.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: CFDA Number 84.371C, 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from the NFP and 34 CFR 75.210, and are as follows:

(a) State-level activities (30 points).

To determine the quality of the applicant's State-level activities, the Secretary considers—

(1) The extent to which the SEA will support and provide technical assistance to its SRCL program subgrantees to ensure they implement a high-quality comprehensive literacy instruction program that will improve student achievement, including technical assistance on identifying and implementing with fidelity interventions and practices that are supported by moderate evidence or strong evidence and align with local needs; and

(2) The extent to which the SEA will collect data and other information to inform the continuous improvement, and evaluate the effectiveness and impact, of local projects.

(b) SEA plan for subgrants (20 points).

To determine the quality of the applicant's SEA plan for subgrants, the Secretary considers the extent to which the SEA has a high-quality plan to use an independent peer review process to award subgrants that propose a high-quality comprehensive literacy instruction program, including—

(1) A plan to prioritize projects that will use interventions and practices that are supported by moderate evidence or strong evidence; and

(2) A process to determine—

(i) The extent to which the intervention or practice is supported by moderate evidence or strong evidence;

(ii) The alignment of the local project to the State's comprehensive literacy plan and the local literacy plan;

(iii) The extent to which the interventions and practices are differentiated and are appropriate for children from birth through age five and children in kindergarten through grade 5; and

(iv) The relevance of cited studies to the project proposed and identified needs.

(c) SEA monitoring plan (30 points).

To determine the quality of the applicant's SEA monitoring plan, the Secretary considers the extent to which the SEA describes a high-quality plan for monitoring local projects, including how it will ensure that—

(1) The interventions and practices that are part of the comprehensive literacy instruction program are aligned with the SEA's State comprehensive literacy plan;

(2) The interventions and practices that subgrantees implement are supported by moderate evidence or strong evidence, to the extent appropriate and available;

(3) The interventions and practices are differentiated and are appropriate for children from birth through age five and children in kindergarten through grade 5; and

(4) The interventions and practices are implemented with fidelity and aligned with the SEA's State comprehensive literacy plan and local literacy plan.

(d) Alignment of resources (10 points).

To determine the quality of the applicant's alignment of resources, the Secretary considers the extent to which the SEA will:

(1) Target subgrants supporting projects that will improve instruction for the greatest numbers or percentages of disadvantaged children; and

(2) Award subgrants of sufficient size to fully and effectively implement the local plan while also ensuring that at least—

(a) 15 percent of the subgranted funds serve children from birth through age five;

(b) 40 percent of the subgranted funds serve students in kindergarten through grade five; and

(c) 40 percent of the subgranted funds serve students in middle and high school, through grade 12, including an equitable distribution of funds between middle and high schools.

(e) Adequacy of resources (25 points).

The Secretary considers the adequacy of resources for the proposed project. In determining the adequacy of resources for the proposed project, the Secretary considers the following factors:

(1) The extent to which the costs are reasonable in relation to the objectives, design, and potential significance of the proposed project; and

(2) The extent to which the costs are reasonable in relation to the number of persons to be served and to the anticipated results and benefits.

(f) Quality of the project design (5 points).

The Secretary considers the quality of the project design. In determining the quality of the design of the proposed project, the Secretary considers the extent to which the proposed project is designed to build capacity and yield results that will extend beyond the period of Federal financial assistance.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances including those applicable to Federal civil rights laws that prohibit discrimination in programs or activities receiving Federal financial assistance from the Department of Education (34 CFR 100.4, 104.5, 106.4, 108.8, and 110.23).

3. Risk Assessment and Special Conditions: Consistent with 2 CFR 200.205, before awarding grants under this program the Department conducts a review of the risks posed by applicants. Under 2 CFR 3474.10, the Secretary may impose special conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $150,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through SAM. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

4. Performance Measures: The Department has established the following Government Performance and Results Act of 1993 performance measures for the SRCL program:

(1) The percentage of participating four-year-old children who achieve significant gains in oral language skills.

(2) The percentage of participating fifth-grade students who meet or exceed proficiency on State reading/language arts assessments under section 1111(b)(2)(B)(v)(I) of the ESEA, as amended by the ESSA.

(3) The percentage of participating eighth-grade students who meet or exceed proficiency on State reading/language arts assessments under section 1111(b)(2)(B)(v)(I) of the ESEA, as amended by the ESSA.

(4) The percentage of participating high school students who meet or exceed proficiency on State reading/language arts assessments under section 1111(b)(2)(B)(v)(I) of the ESEA, as amended by the ESSA.

These measures constitute the Department's indicator of success for this program. Consequently, we advise an applicant for a grant under this program to give careful consideration to these measures in conceptualizing the approach and evaluation for its proposed project. Each grantee will be required to provide, in its annual performance and final reports, data about its progress in meeting these measures.

5. Continuation Awards: Grants awarded under this competition may be for a project period of up to three years. The Department will either award grantees their entire three-year award at the time of the initial award, or will award grantees only the first-year portion of their award. If the Department awards grantees only the first-year portion of their award, depending on the availability of funds, the Department will make continuation awards for years two and three in accordance with 34 CFR 75.253. In making a continuation award under 34 CFR 75.253, the Secretary considers, among other things: whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to either program contact person listed under FOR FURTHER INFORMATION CONTACT.

Electronic Access to This Document: The official version of this document is the document published in the Federal Register. Free internet access to the official edition of the Federal Register and the Code of Federal Regulations is available via the Federal Digital System at: www.gpo.gov/fdsys. At this site you can view this document, as well as all other documents of this Department published in the Federal Register, in text or PDF. To use PDF you must have Adobe Acrobat Reader, which is available free at the site.

You may also access documents of the Department published in the Federal Register by using the article search feature at: www.federalregister.gov. Specifically, through the advanced search feature at this site, you can limit your search to documents published by the Department.

Dated: May 11, 2017.
Jason Botel,
Acting Assistant Secretary for Elementary and Secondary Education.

[FR Doc. 2017-09896 Filed 5-15-17; 8:45 am]

BILLING CODE 4000-01-P